NATIONAL AERONAUTICS AND SPACE ADMINISTRATION

Notice (01-062)

Notice of Prospective Patent License

AGENCY: National Aeronautics and Space Administration.

ACTION: Notice of prospective patent license.

SUMMARY: NASA hereby gives notice that Phoenix Systems International, Inc., of Ashtabula, OH, has applied for an exclusive patent license to practice the invention described in NASA Case No. KSC-12235-1, entitled High Temperature Decomposition of Hydrogen Peroxide,” which is assigned to the United States of America as represented by the Administrator of the National Aeronautics and Space Administration. Written objections to the prospective grant of a license should be sent to Randy Heald, Patent Counsel, John F. Kennedy Space Center, Kennedy Space Center, FL 32899.

DATE(S): Responses to this notice must be received by July 30, 2001.

FOR FURTHER INFORMATION CONTACT: Melanie Chan, Licensing Commercialization Manager, John F. Kennedy Space Center, Mail Code YA-C1, Kennedy Space Center, FL 32899, melanie.chan-1@ksc.nasa.gov, telephone (321) 867-6367.

Dated: May 22, 2001.
Edward A. Frankle,
General Counsel.

[FR Doc. 01-13396 Filed 5-25-01; 8:45 am]

BILLING CODE 7510-01-P